DEPARTMENT OF HOUSING AND URBAN DEVELOPMENT

[Docket No. FR-4977-N-09]

Notice of Proposed Information Collection for Public Comment: The Evaluation of the Family Self-Sufficiency Program: Prospective Study

AGENCY: Office of Policy Development and Research, HUD.

ACTION: Notice.

SUMMARY: The proposed information collection requirement described below will be submitted to the Office of Management and Budget (OMB) for review, as required by the Paperwork Reduction Act. The Department is soliciting public comments on the subject proposal.

DATES: Comments Due Date: January 30, 2006.

ADDRESSES: Interested persons are invited to submit comments regarding this proposal. Comments should refer to the proposal by name and/or OMB Control Number and should be sent to: Reports Liaison Officer, Office of Policy Development and Research, Department of Housing and Urban Development, 451 7th Street, SW., Room 8228, Washington, DC 20410-5000.

FOR FURTHER INFORMATION CONTACT: Jennifer Stoloff, Program Evaluation Division, Office of Policy Development and Research, Department of Housing and Urban Development, 451 7th Street, SW., Room 8140, Washington, DC 20410-5000. Telephone (202) 708-3700, extension 5723 for copies of the proposed forms and other available documents. (This is not a toll-free number).

SUPPLEMENTARY INFORMATION: This Notice informs the public that the Department of Housing and Urban Development (HUD) will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond, including through the use of appropriate automated collection techniques or other forms of information technology (e.g., permitting electronic submission of responses).

This Notice also lists the following information:

Title of Proposal: Evaluation of the Family Self-Sufficiency Program: Prospective Study.

Description of the need for the information and proposed use: This request is for the clearance of a survey instrument designed to gather detailed information from twenty-five families about their experience in the Family Self-Sufficiency Program. The data collection will take the form of in-depth, semi-structural interviews. The families will be contacted three times in a three year period.

OMB Control Number: Pending.

Agency form numbers: None.

Members of Affected Public: Individuals.

Estimation of the total number of hours needed to prepare the information collection including number of respondents, frequency of response, and hours of response: 25 individuals will be interviewed, there will be three interviews per respondent. The average time to complete each interview is 30 minutes. Total burden hours (with no attrition): 37.5.

| Number of respondents | × | Frequency of response | × | Hours per response | = | Burden hours
Reporting burden | 25 |  | 3 |  | .5 |  | 37.5

Status of the proposed information collection: Pending OMB approval.

Authority: Section 3506 of the Paperwork Reduction Act of 1995, 44 U.S.C. Chapter 35, as amended.

Dated: November 14, 2005.
Darlene F. Williams,
Assistant Secretary for Policy Development and Research.

[FR Doc. 05-23385 Filed 11-28-05; 8:45 am]

BILLING CODE 4210-62-M